DEPARTMENT OF ENERGY

Office of Energy Efficiency and Renewable Energy

10 CFR Part 430

[Docket No. EE-RM/STD-01-350]

RIN 1904-AA-78

Energy Efficiency Program for Consumer Products: Energy Conservation Standards for Residential Furnaces and Boilers

AGENCY: Office of Energy Efficiency and Renewable Energy, Department of Energy.

ACTION: Notice of public workshop.

SUMMARY: The Department of Energy (DOE or Department) is convening a public workshop to discuss and receive comments on issues related to residential furnaces and boilers venting installations and to discuss the Department's research concerning venting systems.

DATES: The public workshop will be held on Wednesday, May 8, 2002, from 9:00 a.m. to 5:00 p.m. Written comments should be submitted by June 7, 2002.

ADDRESSES: The workshop will be held at the U.S. Department of Energy, Forrestal Building, Room 1E-245, 1000 Independence Avenue, SW, Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.)

On or about April 22, 2002, DOE will place a set of presentations describing the Department's research into this issue and workshop agenda on the DOE website at: http://www.eren.doe.gov/buildings/codes—standards/. Written comments are welcome, especially following the workshop. Please submit written comments to: Ms. Brenda Edwards-Jones, U.S. Department of Energy, Office of Energy Efficiency and Renewable Energy, Energy Conservation Program for Consumer Products: Energy Conservation Standards for Residential Furnaces and Boilers, Docket Number: EE-RM/STD-01-350, EE-41, 1000 Independence Avenue, SW, Washington, DC 20585-0121. Telephone: (202) 586-2945. You should label comments both on the envelope and on the documents and submit them for DOE receipt by June 7, 2002. Please submit one signed copy and a computer diskette or CD (in WordPerfect™ 8 format)—no telefacsimiles. The Department will also accept electronically-mailed comments, e-mailed to Brenda.Edwards-Jones@ee.doe.gov, but you must supplement such comments with a signed hard copy.

Copies of the transcript of the public workshop, the public comments received, and this notice may be read at the Freedom of Information Reading Room, U.S. Department of Energy, Forrestal Building, Room 1E-190, 1000 Independence Avenue, SW, Washington, DC 20585, (202) 586-3142, between the hours of 9 a.m. and 4 p.m., Monday through Friday, except Federal holidays.

FOR FURTHER INFORMATION CONTACT: Cyrus Nasseri, U.S. Department of Energy, Office of Energy Efficiency and Renewable Energy, EE-41, 1000 Independence Avenue, SW, Washington, DC 20585-0121, (202) 586-9138, email: cyrus.nasseri@ee.doe.gov, or Francine Pinto, U.S. Department of Energy, Office of General Counsel, GC-72, 1000 Independence Avenue, SW., Washington, DC 20585-0103, (202) 586-9507, email: francine.pinto@hq.doe.gov.

SUPPLEMENTARY INFORMATION: Part B of Title III of the Energy Policy and Conservation Act of 1975 (EPCA or Act), Pub. L. 94-163, as amended by the National Energy Conservation Policy Act (NECPA), Pub. L. 95-619; the National Appliance Energy Conservation Act of 1987 (NAECA), Pub. L. 100-12; the National Appliance Energy Conservation Amendments of 1988 (NAECA 1988), Pub. L. 100-357; and the Energy Policy Act of 1992 (EPACT), Pub. L. 102-486, created the Energy Conservation Program for Consumer Products other than Automobiles. The consumers' products subject to this Program include residential furnaces, boilers and mobile home furnaces. (42 U.S.C. 6295(f)).

Since the fiscal year 2001, the Department has been pursuing a rulemaking activity for the purpose of determining whether amended energy conservation standards for covered residential furnaces, boilers and mobile home furnaces are justified. On June 19, 2001, the Department published a notice announcing a public workshop and the availability of the framework document for residential furnace and boiler efficiency standards. 62 FR 32914. On July 17, 2001, the Department conducted a workshop (the “framework workshop”) to explain and discuss the process, analyses, and issues that are involved in this proceeding.

During and after the framework workshop, the Department received comments from residential furnace and boiler manufacturers, trade associations and other interested parties expressing concern regarding the effect of increased standards on the venting system of these products. The concern is that with increased furnace efficiency, the flue gas temperature is reduced and the moisture in flue gas may condense and cause corrosion in the vent system, which can lead to potential safety problems if the corrosive liquid perforates the vent system and allows harmful gases to enter living space. Reduced flue gas temperature also makes the flue gas less buoyant and reduces the efficacy of venting systems during furnace operating cycles.

Because of the above concern, it is necessary to understand the flue gas condensation phenomenon, including how the condensation begins to affect the furnace vent system at increased furnace efficiency and what technology options mitigate condensation. The Department has reviewed the consensus standards on safe installation of gas appliances developed by American Gas Association (AGA) and the National Fire Protection Association (NFPA). These consensus standards are contained in the National Fuel Gas Code (NFGC), also known as Z223.1/NFPA 54. The NFGC establishes guidelines for venting category I gas-fired furnaces by means of venting tables which list allowable furnace input ratings versus vent lengths. The Department has reviewed the methodology used in the NFGC tables, test data (e.g., jacket loss) reported by various organizations, as well as a computer simulation model (e.g., VENT-II) which was used in the past to evaluate venting system performance. The Department has also reviewed information on current venting practices and codes and potential design options for venting system treatment.

The workshop announced in today's notice is the next step in the rulemaking process for determining whether to amend the energy conservation standards for covered residential furnaces, boilers and mobile home furnaces. A detailed agenda for this workshop is currently under development and as noted above, will be posted on the Department's web site on or about April 22, 2002. The agenda items will cover issues related to Annual Fuel Utilization Efficiency (AFUE) limits for non-condensing furnaces based on the NFGC and furnace test data, current venting practices and codes, the effect of higher Steady State Efficiency (SSE) on the NFGC tables and design options that may decrease condensation in the venting system. For each agenda item, the Department will make a presentation summarizing the current status and will initiate a discussion regarding the accuracy and completeness of data and analysis tools. During these discussions, the Department is particularly interested in receiving comments and views of interested parties concerning the venting issues referenced above and possible approaches to enhance the accuracy of the analysis tools and data. The Department encourages those who wish to participate in the workshop to make presentations that address these issues. If you would like to make a presentation during the workshop, please inform Ms. Edwards-Jones at least two weeks before the date of the workshop and provide her with a copy of your written presentation material at least one week before the date of the workshop.

The workshop will be conducted in an informal, conference style. A court reporter will be present to record the minutes of the meeting. There shall be no discussion of proprietary information, costs or prices, market shares, or other commercial matters regulated by the U.S. antitrust laws. After the workshop and expiration of the period for submitting written comments, the Department will proceed with collecting data and conducting analyses concerning possible amended standards for residential furnaces, boilers and mobile home furnaces.

If you would like to participate in the workshop, receive workshop materials, or be added to the DOE mailing list to receive future notices and information regarding residential furnaces, boilers and mobile home furnaces, please contact Ms. Brenda Edwards-Jones at (202) 586-2945.

Issued in Washington, DC, on April 5, 2002.
David K. Garman,
Assistant Secretary for Energy Efficiency and Renewable Energy.

[FR Doc. 02-8619 Filed 4-9-02; 8:45 am]

BILLING CODE 6450-01-P